DEPARTMENT OF TRANSPORTATION

Federal Aviation Administration

Notice of Intent To Request Approval From the Office of Management and Budget of a New Information Collection Activity, Request for Comments; New England Region Aviation Expo

AGENCY: Federal Aviation Administration (FAA), DOT.

ACTION: Notice and request for comments.

SUMMARY: The FAA invites public comments about our intention to request the Office of Management and Budget (OMB) to approve a new information collection. The information is being used to properly identify airmen to allow the agency to verify their foreign license being used to qualify for a US certificate.

DATES: Please submit comments by July 31, 2007.

FOR FURTHER INFORMATION CONTACT: Carla Mauney on (202) 267-9895, or by e-mail at: Carla.Mauney@faa.gov.

SUPPLEMENTARY INFORMATION:

Federal Aviation Administration (FAA).

Title: Verification of Authenticity of Foreign License, Rating, and Medical Certification.

Type of Request: New collection.

OMB Control Number: 2120-XXXX.

Forms(s): 8060-71.

Affected Public: A total of 5400 respondents.

Frequency: The information is collected on occasion.

Estimated Average Burden per Response: Approximately 10 minutes per response.

Estimated Annual Burden Hours: An estimated 900 hours annually.

Abstract: The information is being used to properly identify airmen to allow the agency to verify their foreign license being used to qualify for a U.S. certificate. The respondents are holders of foreign licenses wishing to obtain a U.S. certificate.

ADDRESSES: Send comments to the FAA at the following address: Ms. Carla Mauney, Room 712, Federal Aviation Administration, Strategy and Investment Analysis Division, AIO-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on May 25, 2007.
Carla Mauney,
FAA Information Collection Clearance Officer, Strategy and Investment Analysis Division, AIO-20.

[FR Doc. 07-2723 Filed 5-31-07; 8:45 am]

BILLING CODE 4910-13-M